DEPARTMENT OF THE INTERIOR

National Park Service

[N6499; NPS-WASO-NAGPRA-NPS0041040; PPWOCRADN0-PCU00RP14.R50000]

Notice of Intended Repatriation: Yale University Art Gallery, New Haven, CT

AGENCY: National Park Service, Interior.

ACTION: Notice.

SUMMARY: In accordance with the Native American Graves Protection and Repatriation Act (NAGPRA), the Yale University Art Gallery (YUAG), intends to repatriate a certain cultural item that meets the definition of an unassociated funerary object and that has a cultural affiliation with the Indian Tribes or Native Hawaiian organizations in this notice.

DATES: Repatriation of the cultural item in this notice may occur on or after October 14, 2025.

ADDRESSES: Send additional, written requests for repatriation of the cultural item in this notice to Stephanie Wiles, Director, Yale University Art Gallery, 1111 Chapel Street, New Haven, CT 06510, email stephanie.wiles@yale.edu, and Antonia Bartoli, Curator of Provenance Research, 1111 Chapel Street, New Haven, CT 06510, email antonia.bartoli@yale.edu.

SUPPLEMENTARY INFORMATION: This notice is published as part of the National Park Service's administrative responsibilities under NAGPRA. The determinations in this notice are the sole responsibility of the YUAG, and additional information on the determinations in this notice, including the results of consultation, can be found in the summary or related records. The National Park Service is not responsible for the determinations in this notice.

Abstract of Information Available

A total of one cultural item has been requested for repatriation. The one unassociated funerary object is an engraved silver armband. The armband was made by Joseph Richardson Jr. (1752-1831) and was removed from a burial mound in or near Cross Village, Emmet County, in Michigan, by the blacksmith of the village, by 1898. The item subsequently passed into the collections of Philip H. Dilg, in Chicago, Illinois, and Cornelius Titus Geesey, who sold the cultural item to the YUAG in 1948. A relationship of shared group identity can be clearly and reasonably traced between the cultural item and the Little Traverse Bay Bands of Odawa Indians.

Determinations

The YUAG has determined that:

• The one unassociated funerary object described in this notice is reasonably believed to have been placed intentionally with or near human remains, and are connected, either at the time of death or later as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• There is a connection between the cultural item described in this notice and the Little Traverse Bay Bands of Odawa Indians, Michigan.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after October 14, 2025. If competing requests for repatriation are received, the YUAG must determine the most appropriate requestor prior to repatriation. Requests for joint repatriation of the cultural item are considered a single request and not competing requests. The YUAG is responsible for sending a copy of this notice to the Indian Tribes and Native Hawaiian organizations identified in this notice and to any other consulting parties.

Authority: Native American Graves Protection and Repatriation Act, 25 U.S.C. 3004 and the implementing regulations, 43 CFR 10.9.

Dated: August 29, 2025.
Melanie O'Brien,
Manager, National NAGPRA Program.

[FR Doc. 2025-17631 Filed 9-11-25; 8:45 am]

BILLING CODE 4312-52-P